NUCLEAR REGULATORY COMMISSION

[NRC-2008-0391]

Notice of Availability of Final Supplemental Environmental Impact Statement for the Lost Creek In-Situ Recovery (ISR) Project in Sweetwater County, WY; Supplement to the Generic Environmental Impact Statement for In-Situ Leach Uranium Milling Facilities

AGENCY: Nuclear Regulatory Commission.

ACTION: Notice of availability.

SUMMARY: Notice is hereby given that the U.S. Nuclear Regulatory Commission (NRC) is issuing a final Supplemental Environmental Impact Statement (SEIS) to the Generic Environmental Impact Statement for In-Situ Leach Uranium Milling Facilities (GEIS), (NUREG-1910, Supplement 3) for the Lost Creek In-Situ Recovery Project in Sweetwater County, Wyoming. By letter dated October 30, 2007, Lost Creek ISR, LLC (LCI), a wholly-owned subsidiary of UR-Energy USA, Inc. submitted an application to the NRC for a new source and byproduct material license for the Lost Creek ISR Project, which LCI proposed to be located in the Great Divide Basin in Sweetwater County, Wyoming. LCI is proposing to recover uranium from the Lost Creek ISR Project site using the in-situ leach (also known as the in-situ recovery [ISR]) process. In this final SEIS, the NRC staff assessed the environmental impacts from the construction, operation, aquifer restoration, and decommissioning of the proposed Lost Creek ISR Project.

In addition to the proposed action, the NRC staff assessed two alternatives in the final SEIS: An alternative that would result in dry yellowcake production at the proposed Lost Creek ISR Project and the No-Action Alternative. In addition, the NRC staff evaluated alternative wastewater disposal options to the proposed action of disposing of liquid effluent via Class I disposal wells. Under the No-Action alternative, NRC would deny LCI's request to construct, operate, conduct aquifer restoration, and decommission an ISR facility at Lost Creek. Alternatives that were considered, but were eliminated from detailed analysis, included conventional mining and milling or heap leach processing. However, given the substantial environmental impact from implementing these alternatives, they were not further considered. The NRC staff also evaluated alternate lixiviants. For reasons discussed in the SEIS, this alternative was also eliminated from detailed analysis.

As discussed in Section 2.4 of the final SEIS, unless safety issues mandate otherwise, the NRC staff's recommendation to the Commission related to the environmental aspects of the proposed action is that the source and byproduct material license be issued as requested. This recommendation is based upon: (1) The license application, including the environmental and technical report submitted by LCI and the applicant's supplemental letters and responses to the NRC staff's requests for additional information; (2) consultation with Federal, State, Tribal, and local agencies; (3) the NRC staff's independent review; (4) the NRC staff's consideration of comments received on the draft SEIS; and (5) the assessments summarized in this SEIS.

The final SEIS for the Lost Creek ISR Project may be accessed on the Internet at http://www.nrc.gov/reading-rm/doc-collections/nuregs/staff/sr1910/s3/. Additionally, the NRC maintains an Agencywide Documents and Management System (ADAMS), which provides text and image files of the NRC's public documents. The SEIS may also be accessed online at NRC's Library at: http://www.nrc.gov/reading-rm/adams.html. The final “Environmental Impact Statement for the Lost Creek ISR Project in Sweetwater County, Wyoming—Supplement to the Generic Environmental Impact Statement for In-Situ Leach Uranium Milling Facilities” is available electronically under ADAMS Accession Number ML11125A006. If you do not have access to ADAMS or if there is a problem accessing documents located in ADAMS, contact the NRC Public Document Room (PDR) reference staff at 1-800-397-4209, 301-415-4737, or by e-mail pdr.resource@nrc.gov. Information and documents associated with the final SEIS are also available for inspection at the NRC's PDR, NRC's Headquarters Building, Room O1-F21, 11555 Rockville Pike (first floor), Rockville, Maryland 20852-2783. For those without access to the Internet, paper copies of any electronic documents may be obtained for a fee by contacting the NRC's PDR at 1-800-397-4209. The final SEIS and related documents may also be found at the following public libraries:

Sweetwater County Library, 300 North 1st Street East, Green River, Wyoming 82935, 307-875-8615.

Rock Springs Branch Library, 400 C Street, Rock Springs, Wyoming 82901, 307-352-6667.

FOR FURTHER INFORMATION CONTACT: Mr. Alan Bjornsen, Project Manager, Environmental Review Branch-B, Division of Waste Management and Environmental Protection (DWMEP), Office of Federal and State Materials and Environmental Management Programs (FSME), Mail Stop T-8F5, U.S. Nuclear Regulatory Commission, Washington, DC 20555-0001. Telephone: 1 (800) 368-5642, extension 1195; E-mail: Alan.Bjornsen@nrc.gov. For general or technical information associated with the safety and licensing of uranium milling facilities, please contact Stephen Cohen, Team Lead, Uranium Recovery Licensing Branch, DWMEP, FSME, Mail Stop T-8F5, U.S. Nuclear Regulatory Commission, Washington, DC 20555-0001. Telephone: 1 (800) 368-5642, extension 7182; E-mail: Stephen.Cohen@nrc.gov.

Dated at Rockville, Maryland, this 17th day of June 2011.
For the Nuclear Regulatory Commission.
Andrew Persinko,
Deputy Director, Environmental Protection and Performance Assessment Directorate, Division of Waste Management and Environmental Protection, Office of Federal and State Materials and Environmental Management Programs.

[FR Doc. 2011-15828 Filed 6-23-11; 8:45 am]

BILLING CODE 7590-01-P